DEPARTMENT OF JUSTICE

Office of Justice Programs

[OJP (NIJ) Docket No. 1739]

Special Technical Committee on Civil Disturbance Unit Personal Protective Equipment

AGENCY: National Institute of Justice, Office of Justice Programs, Justice.

ACTION: Notice.

SUMMARY: The National Institute of Justice (NIJ) is seeking qualified individuals to serve on a Special Technical Committee (STC) on Civil Disturbance Unit (CDU) Personal Protective Equipment (PPE). The purpose of the STC will be to oversee the development of performance standards for CDU PPE that meet the needs of U.S. law enforcement.

DATES: Individuals wishing to submit an application to NIJ must do so by 5:00 p.m. Eastern Time September 5, 2017, as instructed below.

How to Respond and What to Include: To apply to serve on the Special Technical Committee on Civil Disturbance Unit Personal Protective Equipment, please email a resume or curriculum vitae to the point of contact listed below by the deadline listed above. Please put “Special Technical Committee on Civil Disturbance Unit Personal Protective Equipment” in the subject line. If submitting hardcopy application materials, please send to the attention of the point of contact listed below at the address provided. Hardcopy application materials must be postmarked by the date listed above. There is no page limit or limit to the amount of information that an interested applicant may submit to demonstrate his or her qualifications. More information on the individuals sought for the STC is provided below. No materials will be returned. All materials submitted will be treated confidentially and discreetly and may be shared with U.S. Government staff or U.S. Government contractors for evaluation purposes related to selection for the STC only, subject to the Freedom of Information Act.

FOR FURTHER INFORMATION CONTACT: Mark Greene, Office of Science and Technology, National Institute of Justice, 810 7th Street NW., Washington, DC 20531; telephone number: (202) 307-3384; email address: mark.greene2@usdoj.gov.

SUPPLEMENTARY INFORMATION: NIJ hosted a convening of state and local law enforcement agencies and technical organizations in Washington, DC, on May 16, 17, and 18, 2017, to discuss a range of issues related to CDU with a particular focus on standardization of equipment. As an outcome of that workshop, NIJ plans to facilitate the development of baseline performance requirements, standardized test methods, and certification requirements for equipment used by U.S. law enforcement civil disturbance units. NIJ anticipates that these standards will be developed through the consensus process through one or more accredited Standards Development Organizations (SDO), with the participation of U.S. law enforcement CDU practitioners, testing laboratories, product certifiers, as well as manufacturers and industry. A scan of current standards revealed a gap in performance standards regarding equipment related to civil disturbances that address specific U.S. law enforcement requirements. For U.S. law enforcement agencies planning to procure new or certified CDU PPE, NIJ has identified either British Standard 7971, Protective clothing and equipment for use in violent situations and in training, or standards developed by the U.K. Home Office [i.e., HOSDB Blunt Trauma Protector Standard for UK Police (2007), PSDB Protective Headwear Standard for UK Police (2004), and HOSDB Flame Retardant Overalls Standard for UK Police (2008)] as performance standards that may meet agencies' needs until such time as U.S. standards can be developed.

NIJ develops and publishes voluntary equipment standards that specifically address the needs of law enforcement, corrections, and other criminal justice agencies to ensure that equipment is safe, reliable, and performs according to established minimum performance requirements. When practical and appropriate, NIJ supports the development of standards by outside SDOs to meet the needs of the criminal justice community. NIJ promulgates standards that are consensus-based and designed to articulate the criminal justice end user community's operational requirements regarding equipment performance. They are designed to provide a level of confidence in a product's fitness for purpose and allow comparison of products based on standardized test methods. NIJ maintains active standards for a variety of equipment, including ballistic-resistant body armor; stab-resistant body armor; restraints; bomb suits; chemical, biological, radiological, and nuclear (CBRN) protective ensembles; and offender tracking systems and makes use of other external standards that meet the needs of the criminal justice community. More information on NIJ standards is available at http://www.nij.gov/standards.

NIJ is seeking qualified individuals to serve on a STC on CDU PPE. The purpose of the STC will be to oversee the development of performance standards for CDU PPE that meet the needs of U.S. law enforcement. NIJ anticipates that the STC should expect to discuss product certification and conformity assessment in general during the development of performance standards. NIJ anticipates the Committee will be comprised of approximately 25 individual CDU practitioners from federal, state, and local law enforcement agencies; test laboratories; and other relevant technical or governmental organizations. Individuals will be selected to achieve the best possible balance of knowledge and expertise. Due to the practitioner-driven nature of the STC and its limited size, manufacturers will not be permitted to serve on the STC. However, manufacturers may participate in the standards development process through private-sector SDOs that may be involved.

Submitted materials must clearly demonstrate the applicant's qualifications to serve on the STC. Law enforcement practitioners must be active sworn personnel, should have experience with CDU PPE, and should have specialized civil disturbance operational responsibilities in his or her respective agency that would especially qualify him or her to serve on the STC. This may fall under the responsibility of a special operations division, special emergency response team, disorder control unit, or similarly named organizational entity within a law enforcement agency. Individuals operating at all levels of a law enforcement agency are encouraged to apply, however, individuals at the level of sergeant and above are preferred. Laboratory representatives should have a level of experience with mechanical testing to be considered an expert in testing methodology. If provisionally selected to serve on the STC, candidates should expect to disclose any financial conflicts of interest with manufacturers for assessment prior to final selection. NIJ anticipates that the STC will meet for two to three days in the Washington, DC area approximately four to five times over the course of approximately 18-24 months starting sometime in late 2017. The remainder of the work will be conducted by telephone and email. It is expected that travel and per diem expenses for travel originating outside the local Washington, DC area will be reimbursed. However, participation time will not be reimbursed. Any potential reimbursements are subject to, inter alia, the availability of appropriated funds, and to any modifications or additional requirements that may be imposed by law.

Howard Spivak,
Acting Director, National Institute of Justice.

[FR Doc. 2017-14037 Filed 7-3-17; 8:45 am]

BILLING CODE 4410-18-P